DEPARTMENT OF COMMERCE

Patent and Trademark Office

Submission for OMB Review; Comment Request; Law School Clinic Certification Program

The United States Patent and Trademark Office (USPTO) will submit to the Office of Management and Budget (OMB) for clearance the following proposal for collection of information under the provisions of the Paperwork Reduction Act of 1995.

Agency: United States Patent and Trademark Office, Department of Commerce.

Title: Law School Clinic Certification Program.

OMB Control Number: 0651-0081.

Form Number(s): (SB = Specimen Book, LS = Law School)

• PTO/SB/419: (Certification and Request to Make Special Under the Law School Program)

• PTO-158LS: (Application for Limited Recognition in USPTO Law School Program)

Type of Request: Revision of a currently approved information collection.

Number of Respondents: 812.

Average Hours per Response: The USPTO estimates that it will take the public from 30 minutes (0.5 hours) to 40 hours to gather the necessary information, prepare the appropriate documents, and submit the information to the USPTO.

Burden Hours: 690 hours.

Hourly Cost Burden: $145,213.

Non-Hourly Cost Burden: $1,721.

Needs and Uses: The USPTO Office of Enrollment and Discipline (OED) uses the information in this information collection to determine whether the applicants are of good moral character and reputation as well as whether said applicants have the necessary legal, scientific, and technical qualifications required for admittance to the Law School Clinic Certification Program. The USPTO uses student-applicant information to determine whether an applicant may be admitted to, or an existing student-practitioner may remain in, the Law School Clinic Certification Program. Information collected from applications submitted by law schools for admission into the program is used to evaluate those law schools and determine whether they are qualified to be admitted as member law schools into the Law School Clinic Certification Program. These qualifications are reevaluated through the law schools' provision of reports as well as their completion of the required biennial reapplication process.

Affected Public: Individuals or households; private sector.

Frequency: On occasion.

Respondent's Obligation: Required to obtain or retain benefits.

OMB Desk Officer: Nicholas A. Fraser, email: Nicholas_A._Fraser@omb.eop.gov.

Once submitted, the request will be publicly available in electronic format through reginfo.gov. Follow the instructions to view Department of Commerce information collections currently under review by OMB.

Further information can be obtained by:

• Email: InformationCollection@uspto.gov. Include “0651-0081 information request” in the subject line of the message.

• Mail: Kimberly Hardy, Office of the Chief Administrative Officer, United States Patent and Trademark Office, P.O. Box 1450, Alexandria, VA 22313-1450.

Written comments and recommendations for the proposed information collection should be sent on or before March 30, 2020 to Nicholas A. Fraser, OMB Desk Officer, via email to Nicholas_A._Fraser@omb.eop.gov, or by fax to 202-395-5167, marked to the attention of Nicholas A. Fraser.

Kimberly Hardy,
Information Collections Officer, Office of the Chief Administrative Officer, United States Patent and Trademark Office.

[FR Doc. 2020-04135 Filed 2-27-20; 8:45 am]

BILLING CODE 3510-16-P